DEPARTMENT OF ENERGY

Advanced Scientific Computing Advisory Committee; Meeting

AGENCY: Department of Energy, Office of Science.

ACTION: Notice of open meeting.

SUMMARY: This notice announces a meeting of the Advanced Scientific Computing Advisory Committee (ASCAC). The Federal Advisory Committee Act (Pub. L. 92-463, 86 Stat. 770) requires that public notice of these meetings be announced in the Federal Register.

DATES: Friday, November 21, 2014; 8:30 a.m. to 4:30 p.m.; CST.

ADDRESSES: Hyatt Regency New Orleans, 601 Loyola Avenue, New Orleans, LA 70113.

FOR FURTHER INFORMATION CONTACT: Melea Baker, Office of Advanced Scientific Computing Research; U.S. Department of Energy; SC-21/Germantown Building, 1000 Independence Avenue SW., Washington, DC 20585-1290; Telephone (301) 903-7486.

SUPPLEMENTARY INFORMATION: Purpose of the Meeting: To provide advice and guidance on a continuing basis to the Department of Energy on scientific priorities within the field of advanced scientific computing research.

Tentative Agenda Topics:

• View from Germantown

• Exascale Update

• New Charge—Review of Exascale Plan

• Report from the SciDAC Committee of Visitors (COV)

• Discussion and Vote on SciDAC COV Report

• Update on CORI

• Update on Workforce

• Applications Readiness Plan

• INCITE

• Public Comment (10-minute rule)

Public Participation: The meeting is open to the public. To access the Ready Talk call:

1. Dial Toll-Free Number: 1-866-740-1260 (U.S. & Canada).

2. International participants dial: http://www.readytalk.com/intl.

3. Enter access code 9039560, followed by “#”.

If you would like to file a written statement with the Committee, you may do so either before or after the meeting. If you would like to make oral statements regarding any of the items on the agenda, you should contact Melea Baker, (301) 903-7486 or (Melea.Baker@science.doe.gov). You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for viewing on the U.S. Department of Energy's Office of Advanced Scientific Computing Web site at http://science.energy.gov/ascr/.

Issued at Washington, DC, on October 23, 2014.
LaTanya R. Butler,
Deputy Committee Management Officer.

[FR Doc. 2014-25716 Filed 10-28-14; 8:45 am]

BILLING CODE 6450-01-P